DEPARTMENT OF ENERGY

Federal Energy Regulatory Commission

[Docket No. CP03-39-002]

Kinder Morgan Interstate Gas Transmission LLC; Notice of Compliance Filing

May 7, 2004.

Take notice that on April 30, 2004, Kinder Morgan Interstate Gas Transmission LLC (KMIGT) tendered for filing as part of its FERC Gas Tariff, Fourth Revised Volume No. 1-A, the following tariff sheets, with an effective date of June 1, 2004:

Twelfth Revised Sheet No. 4G

Fourth Revised Sheet No. 4J

Original Sheet No. 4K

KMIGT states that it is filing the above-referenced tariff sheets in compliance with the Commission's “Order Issuing Certificate” dated September 11, 2003 in Docket No. CP03-39-000.

KMIGT states that a copy of this filing has been served upon all parties on the official service list for this proceeding.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's web site under the e-Filing link.

Protest Date: May 21, 2004.

Magalie R. Salas,
Secretary.

[FR Doc. E4-1138 Filed 5-12-04; 8:45 am]

BILLING CODE 6717-01-P